UNIFIED CARRIER REGISTRATION PLAN

Sunshine Act Meetings

TIME AND DATE: March 31, 2022, 12:00 p.m. to 2:00 p.m., Eastern time.

PLACE: This meeting will be accessible via conference call and via Zoom Meeting and Screenshare. Any interested person may call (i) 1-929-205-6099 (US Toll) or 1-669-900-6833 (US Toll) or (ii) 1-877-853-5247 (US Toll Free) or 1-888-788-0099 (US Toll Free), Meeting ID: 956 7355 6729, to listen and participate in this meeting. The website to participate via Zoom Meeting and Screenshare is https://kellen.zoom.us/meeting/register/tJErcOqtqz0tGN2cOoys6RcIabpP-LnfNfbA.

STATUS: This meeting will be open to the public.

MATTERS TO BE CONSIDERED: The Unified Carrier Registration Plan Finance Subcommittee (the “Subcommittee”) will continue its work in developing and implementing the Unified Carrier Registration Plan and Agreement. The subject matter of this meeting will include:

Proposed Agenda

I. Call to Order—UCR Finance Subcommittee Chair

The UCR Finance Subcommittee Chair will welcome attendees, call the meeting to order, call roll for the Finance Subcommittee, confirm whether a quorum is present, and facilitate self-introductions.

II. Verification of Meeting Notice—UCR Executive Director

The UCR Executive Director will verify the publication of the meeting notice on the UCR website and distribution to the UCR contact list via email followed by the subsequent publication of the notice in the Federal Register.

III. Review and Approval of Finance Subcommittee Agenda and Setting of Ground Rules—UCR Finance Subcommittee Chair

For Discussion and Possible Subcommittee Action

The agenda will be reviewed, and the UCR Finance Subcommittee will consider adoption.

Ground Rules

➢ Subcommittee action only to be taken in designated areas on agenda.

IV. Review and Approval of Minutes From the November 10, 2021 Meeting—UCR Finance Subcommittee Chair

For Discussion and Possible Subcommittee Action

Draft minutes from the November 10, 2021 UCR Finance Subcommittee meeting via teleconference will be reviewed. The UCR Finance Subcommittee will consider action to approve.

V. Review Current Calculations of 2024 Registration Fee Recommendation—UCR Finance Subcommittee Chair and UCR Depository Manager

The UCR Finance Subcommittee Chair and UCR Depository Manager will present the most recent calculations of the proposed fee for the 2024 registration year based on the actual registration results as of February 28, 2022 and current projections for March 2022 through December 31, 2022.

VI. Update on Development of Investment Strategy—UCR Finance Subcommittee Chair and UCR Depository Manager

The UCR Finance Subcommittee Chair and UCR Depository Manager will provide an update regarding the development of an investment strategy and policy for increasing the rate-of-return on Administrative Reserve Funds. An update on current investment performance, including U.S. Treasuries will be provided.

VII. Review of 2021 Administrative Expenses—UCR Depository Manager

For Discussion and Possible Subcommittee Action

The UCR Depository Manager will review the expenditures of the UCR Plan for the 12 months ended December 31, 2021 with the Finance Subcommittee. The Finance Subcommittee may take action to recommend to the UCR Board how to allocate any remaining allowance.

VIII. Review of 2022 Administrative Expenses—UCR Depository Manager

The UCR Depository Manager will review the expenditures of the UCR Plan for the 2 month period ended February 28, 2022 with the Finance Subcommittee.

IX. 2020 Registration Year Closure—UCR Depository Manager

The UCR Depository Manager will present to the subcommittee the results of the final closure of the Depository for the 2020 registration year.

X. Other Business—UCR Finance Subcommittee Chair

The UCR Finance Subcommittee Chair will call for any other items Finance Subcommittee members would like to discuss.

XI. Adjourn—UCR Finance Subcommittee Chair

The UCR Finance Subcommittee Chair will adjourn the meeting.

The agenda will be available no later than 5:00 p.m. Eastern time, March 17, 2022 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2022-06137 Filed 3-18-22; 11:15 am]

BILLING CODE 4910-YL-P